FEDERAL MARITIME COMMISSION

[Docket No. 04-01]

International Shipping Agency, Inc. v. the Puerto Rico Ports Authority; Notice of Filing of Complaint and Assignment

Notice is given that a complaint has been filed by the International Shipping Agency, Inc. (“Complainant”) against the Puerto Rico Ports Authority (“Respondent”). Complaint contends that Respondent has failed to operate in accordance with the Piers M/N/O Terminal Lease and Development Agreement, FMC Agreement No. 224-201011, has failed to establish, observe, and enforce just and reasonable regulations and practices relating to or connected with receiving, handling, storing or delivering property, has refused to deal or negotiate with Complainant, and has imposed unjust and unreasonable prejudice or disadvantage with respect to Complainant. Complainant contends that Respondent has violated sections 10(a)(3) and 10(b)(10) and sections 10(d)(1) (3) and (4) of the Shipping Act of 1984, 46 U.S.C. app. sections 1709(a)(3); 1709(b)10; and 1709(d)(1), (3) and (4). As a result of these allegations, Complainant claims that they have suffered and will continue to suffer substantial economic damage and injury in excess of 50 million dollars. Complainant seeks an order finding Respondent to have violated the sections cited above, directing Respondent to cease and desist, reparations and attorneys fees and an order directing Respondent to establish reasonable rules and regulations.

This proceeding has been assigned to the Office of Administrative Law Judges. Hearing in this matter, if any is held, shall commence with the time limitations prescribed in 46 CFR 502.61, and only after consideration has been given by the parties and the presiding officer to the use of alternative forms of dispute resolution. The hearing shall include oral testimony and cross-examination in the discretion of the presiding officer only upon showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by January 5, 2005 and a final decision of the Commission shall be issued by May 5, 2005.

Bryant L. VanBrakle,
Secretary.

[FR Doc. 04-815 Filed 1-13-04; 8:45 am]

BILLING CODE 6730-01-P